DEPARTMENT OF COMMERCE

International Trade Administration

[A-570-882]

Refined Brown Aluminum Oxide From the People's Republic of China: Final Results of Expedited Second Sunset Review of the Antidumping Duty Order

AGENCY: Enforcement and Compliance, International Trade Administration, Department of Commerce.

SUMMARY: As a result of this sunset review, the Department of Commerce (the Department) finds that revocation of the antidumping duty order on refined brown aluminum oxide (RBAO) from the People's Republic of China (PRC) would be likely to lead to continuation or recurrence of dumping. The magnitude of the dumping margins likely to prevail is indicated in the “Final Results of Sunset Review” section of this notice.

DATES: Effective Date: May 7, 2014.

FOR FURTHER INFORMATION CONTACT: Terre Keaton Stefanova or David Goldberger, AD/CVD Operations, Office II, Enforcement and Compliance, International Trade Administration, U.S. Department of Commerce, 14th Street & Constitution Avenue NW., Washington, DC 20230; telephone: (202) 482-1280 or (202) 482-4136, respectively.

SUPPLEMENTARY INFORMATION:

Background

On November 19, 2003, the Department published in the Federal Register the antidumping duty order on RBAO from the PRC.¹ On February 3, 2014, the Department published the notice of initiation of the second sunset review of the antidumping duty order on RBAO from the PRC pursuant to section 751(c) of the Act.² On February 14, 2014, the Department received a Notice of Intent to Participate from the following domestic producers of RBAO: C-E Minerals, Inc., Imerys Fused Minerals Niagara Falls, Inc., U.S. Electrofused Minerals, Inc., and Washington Mills Group, Inc. (collectively “the domestic interested parties”), within the deadline specified in 19 CFR 351.218(d)(1)(i). The domestic interested parties claimed interested party status under section 771(9)(C) of the Act, as manufacturers of a domestic like product in the United States. We received a complete substantive response from the domestic interested parties within the 30-day deadline specified in 19 CFR 351.218(d)(3)(i). We received no substantive responses from any respondent interested parties. As a result, pursuant to section 751(c)(3)(B) of the Act and 19 CFR 351.218(e)(1)(ii)(C)(2), the Department conducted an expedited (120-day) sunset review of the order.

¹ See Antidumping Duty Order: Refined Brown Aluminum Oxide (Otherwise Known as Refined Brown Artificial Corundum or Brown Fused Alumina) From the People's Republic of China, 68 FR 65249 (November 19, 2003).

² See Initiation of Five-Year (“Sunset”) Review, 79 FR 6163 (February 3, 2014).

Scope of the Order

The merchandise covered by this order is ground, pulverized or refined brown artificial corundum, also known as brown aluminum oxide or brown fused alumina, in grit size of ⅜ inch or less. The merchandise covered by this order is currently classifiable under subheadings 2818.10.20.00 and 2818.10.20.90 of the Harmonized Tariff Schedule of the United States (HTSUS). Although the HTSUS numbers are provided for convenience and for customs purposes, the written description of the merchandise is dispositive.³

³ For a complete description of the Scope of the Order, see Memorandum to Paul Piquado, Assistant Secretary for Enforcement and Compliance, from Christian Marsh, Deputy Assistant Secretary for Antidumping and Countervailing Duty Operations, titled “Issues and Decision Memorandum for the Final Results of the Expedited Second Sunset Review of the Antidumping Duty Order on Refined Brown Aluminum Oxide from the People's Republic of China,” dated concurrently with and adopted by this notice (Decision Memo).

Analysis of Comments Received

A complete discussion of all issues raised in this review is provided in the accompanying Decision Memo. The issues discussed in the Decision Memo include the likelihood of continuation or recurrence of dumping and the magnitude of the margins likely to prevail if the order were to be revoked. The Decision Memo is a public document and is on file electronically via Enforcement and Compliance's Antidumping and Countervailing Duty Centralized Electronic Service System (IA ACCESS). Access to IA ACCESS is available in the Central Records Unit, Room 7046 of the main Commerce building. In addition, a complete version of the Decision Memo can be accessed directly at http://enforcement.trade.gov/frn/. The signed and electronic versions of the Decision Memo are identical in content.

Final Results of Sunset Review

We determine that revocation of the antidumping duty order on RBAO from the PRC would be likely to lead to continuation or recurrence of dumping at the following weighted-average percentage margins:

Manufacturers/exporters/ producers | Weighted- average margin (percent)
Zibo Jinyu Abrasive Co., Ltd | 135.18
PRC-wide | 135.18

Administrative Protective Order

This notice also serves as the only reminder to parties subject to administrative an protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: April 30, 2014.
Paul Piquado,
Assistant Secretary, for Enforcement and Compliance.

[FR Doc. 2014-10516 Filed 5-6-14; 8:45 am]

BILLING CODE 3510-DS-P